DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 4, 2011. Address written comments to Statutory Import Programs Staff, Room 3720, U.S. Department of Commerce, Washington, DC 20230. Applications may be examined between 8:30 a.m. and 5 p.m. at the U.S. Department of Commerce in Room 3720.

Docket Number: 11-019. Applicant: University of Wyoming, 1000 East University Avenue Laramie, WY 82072. Instrument: Electron Microscope. Manufacturer: Hitachi High-Technologies Corporation, Japan. Intended Use: The instrument will be used to examine animal tissues to diagnose diseases, especially those caused by viral infections. For some diseases, electron microscopy provides the most accurate and timely method of arriving at a presumptive or definitive diagnosis. Justification for Duty-Free Entry: There are no instruments of the same general category manufactured in the United States. Application accepted by Commissioner of Customs: March 11, 2011.

Docket Number: 11-020. Applicant: U.S. Department of Agriculture, Agricultural Research Service. 10300 Baltimore Ave Beltsville, MD 20705. Instrument: Electron Microscope. Manufacturer: Hitachi High-Technologies Corporation, Japan. Intended Use: The instrument will be used to identify and characterize new viruses, bacteria, fungi, parasites, and plant and animal cell structures. Standard electron microscopy techniques will be utilized to observe the samples. Justification for Duty-Free Entry: There are no instruments of the same general category manufactured in the United States. Application accepted by Commissioner of Customs: March 11, 2011.

Docket Number: 11-024. Applicant: Mayo Clinic. 200 First St SW Rochester, MN 55905. Instrument: Electron Microscope. Manufacturer: FEI Company, the Netherlands. Intended Use: The instrument will be used to evaluate tissue looking for ultrastructural indicators of disease, as well as other experiments including cell culture morphology, transplant and host tissue interactions, and implant artifacts and breakage. Techniques to be used include standard transmission electron microscopy preparative procedures as well as specialized techniques including immunoelectron microscopy, negative staining and electron tomography. Justification for Duty-Free Entry: There are no instruments of the same general category manufactured in the United States. Application accepted by Commissioner of Customs: March 14, 2011.

Docket Number: 11-025. Applicant: California State University—Long Beach, 1250 Bellflower Blvd., Long Beach, CA 90840. Instrument: Electron Microscope. Manufacturer: Neaspec GmbH, Germany. Intended Use: The instrument will be used to study plasmonic metal-based materials as well as phonon modes of thin surfaces such as silica, silicon nitride or silicon carbide materials. Experiments will be performed using near-field microscopy measurements, coupling light with an atomic microscope tip and recording optical signals in amplitude and phase. Justification for Duty-Free Entry: There are no instruments of the same general category manufactured in the United States. Application accepted by Commissioner of Customs: March 30, 2011.

Dated: April 8, 2011.
Gregory Campbell,
Director, IA Subsidies Enforcement Office.

[FR Doc. 2011-9108 Filed 4-13-11; 8:45 am]

BILLING CODE 3510-DS-P